DEPARTMENT OF JUSTICE

Notice of Lodging of an Amendment to the Consent Decree Under the Comprehensive Environmental Response, Compensation and Liability Act

Notice is hereby given that on November 19, 2008, a proposed Amendment to the Consent Decree (“Amendment”) in United States of America v. Ormet Primary Aluminum Corporation, Civil Action No. C2-95-947, was lodged with the United States District Court for the Southern District of Ohio, Eastern Division.

In 1995, the United States entered into a Consent Decree with Ormet Primary Aluminum Corporation, Inc. (“Ormet Primary”), which settled a matter under the Comprehensive Environmental Response, Compensation and Liability Act, 42 U.S.C. 9606 & 9607, for the Ormet Corporation Superfund Site (“Site”) in Hannibal, Ohio. Under the Consent Decree, Ormet Primary is required to undertake work to address releases at the Site and provide financial assurance to ensure completion of the work. In 2007, the U.S. Environmental Protection Agency (“U.S. EPA”) determined that Ormet Primary had failed to meet the terms of the financial assurance provisions of the Consent Decree. The Amendment addresses Ormet Primary's failure to have adequate financial assurance by requiring scheduled submissions to the U.S. EPA of letter(s) of credit which by December 21, 2009, in the aggregate, will equal $3,400,000.00. The Amendment also requires, among other things, environmental covenants be recorded with the Register of Deeds, Monroe County, Ohio, identifying use restrictions for the Site and other specified property.

The Department of Justice will receive for a period of thirty (30) days from the date of this publication comments relating to the Amendment. Comments should be addressed to the Assistant Attorney General, Environment and Natural Resources Division, and either emailed to pubcomment-ees.enrd@usdoj.gov or mailed to P.O. Box 7611, U.S. Department of Justice, Washington, DC 20044-7611, and should refer to Ormet Primary Aluminum Corporation, Inc., D.J. Ref. 90-11-3-1423.

During the public comment period, the Amendment may be examined at the Office of the United States Attorney, 303 Marconi Blvd., Suite 200, Columbus, Ohio 43215, and at U.S. EPA Region 5, 77 W. Jackson Blvd., Superfund Records Center, 7th Floor, Chicago, Illinois 60604 or a copy may be obtained from U.S. EPA Region 5 by calling (312) 886-0900. The Amendment may also be examined on the following Department of Justice Web site: http://www.usdoj.gov/enrd/Consent_Decrees.html. A copy of the Amendment may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $16.75 (25 cents per page reproduction cost) payable to the U.S. Treasury or, if by email or fax, forward a check in that amount to the Consent Decree Library at the stated address.

William Brighton,
Assistant Chief Environmental Enforcement Section, Environment and Natural Resources Division.

[FR Doc. E8-29064 Filed 12-8-08; 8:45 am]

BILLING CODE 4410-15-P